FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than December 28, 2016.

A. Federal Reserve Bank of St. Louis (David L. Hubbard, Senior Manager) P.O. Box 442, St. Louis, Missouri 63166-2034. Comments can also be sent electronically to Comments.applications@stls.frb.org:

1. Simmons First National Corporation, Pine Bluff, Arkansas; to acquire 100 percent of Hardeman County Investment Company Inc., and thereby indirectly acquire First South Bank, both of Jackson, Tennessee.

2. Legacy BancShares, Inc., Springdale, Arkansas; to become a bank holding company by acquiring 100 percent of Legacy National Bank, Springdale, Arkansas.

3. First Security Bancorp, Searcy, Arkansas; to increase its ownership in CrossFirst Holdings, LLC, from 10.43 percent to 14.53 percent through the purchase of up to 500,000 additional common member units, and thereby increase its interest in CrossFirst Bank, both of Leawood, Kansas.

4. First National Bancorp, Inc., Green Forest, Arkansas; to acquire 8.10 percent of Legacy BancShares, Inc., Springdale, Arkansas, and thereby indirectly acquire shares of Legacy National Bank, Springdale, Arkansas.

5. Home BancShares, Inc., Conway, Arkansas; to merge with, Giant Holdings, Inc., and thereby indirectly acquire Landmark Bank, N.A., both of Fort Lauderdale, Florida.

B. Federal Reserve Bank of Kansas City (Dennis Denney, Assistant Vice President) 1 Memorial Drive, Kansas City, Missouri 64198-0001:

1. The Banner County Ban Corporation Employee Stock Ownership Plan and Trust, Harrisburg, Nebraska; to acquire up to an additional 1.85 percent for a total of 41.65 percent of the voting shares of Banner County Ban Corporation, parent of Banner Capital Bank, both of Harrisburg, Nebraska.

Board of Governors of the Federal Reserve System, November 28, 2016.
Yao-Chin Chao,
Assistant Secretary of the Board.

[FR Doc. 2016-28894 Filed 11-30-16; 8:45 am]

BILLING CODE 6210-01-P